DEPARTMENT OF HEALTH AND HUMAN SERVICES

Administration for Children and Families

[CFDA Numbers: 93.581, 93.587, 93.612, 93.340]

Request for Public Comment on the Proposed Adoption of Administration for Native Americans Program Policies and Procedures; Correction

AGENCY: Administration for Native Americans, ACF, HHS.

ACTION: Notice for Public Comment; Correction.

SUMMARY: The Administration for Children and Families, Administration for Native Americans (ANA), published a notice for public comment in the Federal Register of December 8, 2015, on the proposed adoption of program policies and procedures concerning FY 2016 Funding Opportunity Announcements (FOA). The document contained incorrect information under “Section D. Changes to Evaluation Criteria for All FOAs (FOA Section V.1. Criteria); 45 CFR 75.204” concerning evaluation criteria and point values for the Native Youth Initiative for Leadership, Empowerment, and Development (hereinafter referred to as “Native Youth I-LEAD”) Funding Opportunity Announcement (HHS-2016-ACF-ANA-NC-1167).

DATES: The deadline for receipt of comments is 15 days from publication of this Notice for Public Comment; Correction in the Federal Register.

ADDRESSES: Send comments in response to this correction notice via email to Lillian Sparks Robinson, Commissioner, ANA, at ANACommissioner@acf.hhs.gov. Comments will be available for inspection by members of the public at the Administration for Native Americans, 330 C Street SW., Washington, DC 20201.

FOR FURTHER INFORMATION CONTACT: Carmelia Strickland, Director, Division of Program Operations, ANA, (877) 922-9262.

Correction

In the Federal Register of December 8, 2015, in Volume 80, No. 235, on page 76296, in the third column, correct section “D. Changes to Evaluation Criteria for All FOAs (FOA Section V.1. Criteria); 45 CFR 75.204” to read:

D. Changes to Evaluation Criteria for All FOAs FOA (Section V.1. Criteria), except the Native Youth I-LEAD FOA; 45 CFR 75.204:

1. Changes to Evaluation Criteria Maximum Point Values: In all FY 2016 FOAs, except the Native Youth I-LEAD FOA (HHS-2016-ACF-ANA-NC-1167), ANA proposes to adjust the maximum point values of evaluation criteria to prioritize the elements that are important to project monitoring and project success. ANA intends to add five points to the value for the Approach Criterion for a maximum point value of 35. The point value for the Objective Work Plan (OWP) criterion will be reduced by five points for a maximum point value of 20 points.

ANA proposes to use the following maximum point values for criteria in all FY 2016 FOAs, except the Native Youth I-LEAD FOA:

Evaluation criteria | Maximum point values
Need for Assistance | 10 points.
Outcomes Expected | 25 points.
Project Approach | 35 points.
Objective Work Plan | 20 points.
Budget and Budget Justification | 10 points.

The remainder of Section D. is correct.

Correction

Section “E. Change to Recipient Reporting Requirements for All FOAs (FOA Section VI.3.Reporting Requirements); 45 CFR 75.342” is changed to:

E. Proposed Evaluation Criteria for the Native Youth I-LEAD (FOA Section V.1.Criteria) (HHS-2016-ACF-ANA-NC-1167); 45 CFR 75.204” added:

1. Evaluation Criteria: The evaluation criteria will offer up to five Bonus Points for applications that include letters of support from community-based youth that describe how they were involved in the planning of the proposed project and how they will continue their involvement in the project's implementation.

ANA proposes to use the following maximum point values for criteria in the Native Youth I-LEAD FOAs:

Evaluation criteria | Maximum point values
Need for Assistance | 10 points.
Outcomes Expected | 35 points.
Approach | 40 points.
Budget and Budget Justification | 15 points.
Bonus Points | 5 points.

Submission of an OWP form will not be required of Native Youth I-LEAD applicants therefore there will not be an evaluation criterion related to the OWP.

2. In the evaluation of Native Youth I-LEAD applications, ANA intends to include youth ages 18 to 25 as objective reviewers and subject matter experts. As applicable to all objective reviewers, youth reviewers will also be subject to conflict of interest requirements and confidentiality certification.

3. In scoring each section of a Native Youth I-LEAD application, objective reviewers will use the scales in the following table. Each criterion has five reference guides. Reviewers will assign a score within the range between the minimum and maximum possible points for each criterion.

Need for assistance (10 pts) | Outcomes expected (35 pts) | Approach (40 pts) | Budget and budget justification (15 pts) | Bonus (5 pts) | Guidance
0 | 0 | 0 | 0 | 0 | No information provided. No strengths.
1-3 | 1-5 | 1-8 | 1-3 | 1-2 | Limited or incomplete proposal lacking detail.
4-5 | 5-10 | 9-16 | 4-6 | 2-3 | Some incomplete discussion or insufficient detail.
6-8 | 11-30 | 17-35 | 7-10 | 3-4 | Strong overall discussion and detail.
9-10 | 31-35 | 36-40 | 11-15 | 5 | Detailed and compelling proposal. No weaknesses.

Correction

Section F. Relocation of ANA Offices is changed to F. Change to Recipient Reporting Requirements for All FOAs (FOA Section VI.3.Reporting Requirements); 45 CFR 75.342; and a new Section G. is added as “G. Relocation of ANA Offices.” There are no changes to the content of these sections.

Statutory Authority: Section 814 of the Native American Programs Act of 1974, as amended.

Lillian Sparks Robinson,
Commissioner, Administration for Native Americans.

[FR Doc. 2016-03132 Filed 2-16-16; 8:45 am]

BILLING CODE 4184-34-P